DEPARTMENT OF ENERGY

Federal Energy Regulatory Commission

[Project No. 619-164]

Pacific Gas and Electric Company; The City of Santa Clara; Notice of Meeting

a. Project Name and Number: Bucks Creek Hydroelectric Project No. 619.

b. Date and Time of Meeting: June 14, 2021; 1:00 p.m.-2:00 p.m. Eastern Time.

c. FERC Contact: Frank Winchell, frank.winchell@ferc.gov.

d. Purpose of Meeting: To discuss the final Programmatic Agreement issued by the Commission for the relicensing of the Bucks Creek Hydroelectric Project.

e. All local, state, and federal agencies, Indian tribes, and other interested parties are invited to attend; however, participation will be limited between the Commission's staff, Advisory Council on Historic Preservation, and California State Historic Preservation Office. Please email the FERC contact noted above by June 9, 2021, to receive specific instructions on how to attend. The meeting will be held remotely using Microsoft Teams.

Dated: May 27, 2021.
Kimberly D. Bose,
Secretary.

[FR Doc. 2021-11665 Filed 6-2-21; 8:45 am]

BILLING CODE 6717-01-P